SMALL BUSINESS ADMINISTRATION

[Declaration of Disaster #3498]

State of Tennessee; (Amendment #3)

In accordance with a notice received from the Department of Homeland Security—Federal Emergency Management Agency, effective May 23, 2003, the above numbered declaration is hereby amended to include Benton, Decatur, Fayette, Giles, Hickman, Humphreys, Lawrence, Lewis, Macon, Perry, Shelby, Smith, Tipton and Trousdale Counties in the State of Tennessee as disaster areas due to damages caused by severe storms, tornadoes and flooding occurring on May 4, 2003 and continuing.

In addition, applications for economic injury loans from small businesses located in the contiguous counties of Clay and Jackson in the State of Tennessee; Crittenden County in the State of Arkansas; Monroe County in the State of Kentucky; and DeSoto and Marshall Counties in the State of Mississippi may be filed until the specified date at the previously designated location. All other counties contiguous to the above named primary counties have been previously declared.

All other information remains the same, i.e., the deadline for filing applications for physical damage is July 7, 2003, and for economic injury the deadline is February 6, 2004.

(Catalog of Federal Domestic Assistance Program Nos. 59002 and 59008).

Dated: May 28, 2003.
Herbert L. Mitchell,
Associate Administrator for Disaster Assistance.

[FR Doc. 03-13777 Filed 6-2-03; 8:45 am]

BILLING CODE 8025-01-P